DEPARTMENT OF TRANSPORTATION

Federal Railroad Administration

[Docket No. FRA-2020-0027-N-23]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before November 30, 2020.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Training, Qualification, and Oversight for Safety-Related Railroad Employees.

OMB Control Number: 2130-0597.

Abstract: In 2014, FRA published a final rule establishing minimum training standards for all safety-related railroad employees, as required by the Rail Safety Improvement Act of 2008. The final rule requires each railroad or contractor that employs one or more safety-related employees to develop and submit a training program to FRA for approval and to designate the minimum training qualifications for each occupational category of employee. Additionally, the rule requires most employers to conduct periodic oversight of their own employees and annual written reviews of their training programs to close performance gaps.

FRA will use the information collected to ensure each employer—railroad or contractor—conducting operations subject to part 243 develops, adopts, submits, and complies with a training program for each category and subcategory of safety-related railroad employee. Each program must have training components identified so that FRA will understand how the program works when it reviews the program for approval. Further, FRA will review the required training programs to ensure they include: Initial, ongoing, and on-the-job criteria; testing and skills evaluation measures designed to foster continual compliance with Federal standards; and the identification of critical safety defects and plans for immediate remedial actions to correct them.

In response to petitions for reconsideration, FRA has extended the effective date for developing the required training program under § 243.101 for employers with 400,000 or more total annual employee work hours to January 1, 2020, and for employers with fewer than 400,000 total annual employee work hours to May 1, 2021.

Type of Request: Extension with change (revised estimates) of a currently approved collection.

Affected Public: Businesses.

Form(s): N/A.

Respondent Universe: 1,155 railroads/contractors/training organizations/learning institutions.

Frequency of Submission: On occasion.

Reporting Burden:

CFR section ¹ | Respondent universe | Total annual responses | Average time per responses | Total annual burden hours | Total cost equivalent ²
243.101(a)(2)—Training program required for each employer not covered by (a)(1) and subject to this part by May 1, 2021 | 1,046 railroads/contractors | 298 training programs | 250 hours | 74,500 | $5,736,500
—(b) Submission by new employers commencing operations after Jan. 1, 2020 not covered by (a)(2) | 10 new railroads/contractors | 10 training programs | 20 | 200 | 24,000
—(e) Contractor's duty to validate approved program to a railroad. (Revised requirement) | 400 railroads/contractors | 50 documents | 15 minutes | 12.5 | 963
—(f) Railroad's duty to retain copies of contractor's validation document (Revised requirement) | 10 new railroads | 10 copies | 2 minutes | .3 | 23
243.103(d)—Training components identified in program; modifications to components of the training programs | 1,155 railroads/contractors | 70 modified training programs | 5 | 350 | 26,950
243.109(b)—Previously approved programs requiring an informational filing when modified | 1,155 railroads/contractors/learning institutions | 10 informational filings | 8 | 80 | 6,160
—(c) New portions or substantial revisions to an approved training program | 10 railroads/contractors | 10 revised training programs | 16 | 160 | 12,320
—(c) New portions or substantial revisions to an approved training program found non-conforming to this part by FRA—revisions required | 5 railroads/contractors | 5 revised training programs | 8 | 40 | 3,080
—(d)(1)(i) Copy of additional submissions, resubmissions, and informational filings to labor organization presidents | 10 railroads/contractors | 25 copies | 10 minutes | 4.2 | 323
—(d)(1)(ii) Railroad statement affirming that a copy of submissions, resubmissions, or informational filings has been served to labor organization presidents | 228 railroads/contractors | 76 affirming statements | 10 minutes | 12.7 | 978
—(d)(2) Labor comments on railroad training program submissions, resubmissions, or informational filings | 228 railroads' labor organizations | 3 comments | 30 minutes | 1.5 | 116
243.111(g)—Safety-related railroad employees instructed by training organizations and learning institutions (TO/LI) —recordkeeping | 109 TO/LI | 5,450 records | 5 minutes | 454.2 | 34,973
—(h) TO/LI to provide student's training transcript or training record to any employer upon request by the student | 109 TO/LI | 545 records | 5 minutes | 45.4 | 3,496
243.201(a)(2)—Designation of existing safety-related railroad employees by job category (for employers not covered by (a)(1) and subject to this part by January 1, 2022) | 1,039 railroads/contractors | 346 designation lists | 15 minutes | 86.5 | 6,661
—(b) New employers operating after January 1, 2020, not covered by (a)(2), designation of safety-related employees by job category—Lists | 10 new railroads/contractors | 10 designation lists | 15 minutes | 2.5 | 193
—(c) Training records of newly hired employees or those assigned new safety-related duties | 4,800 employees | 4,800 records | 15 minutes | 1,200 | 92,400
—(d)(1)(i) Requests for relevant qualification or training record from an entity other than current employer | 4,800 employees | 960 record requests | 5 minutes | 80 | 6,160
243.203—(a)-(e) Recordkeeping—Systems set up to meet FRA requirements | 1,155 railroads/contractors/TOLI | 1,046 recordkeeping systems | 30 minutes | 523 | 40,271
—(f) Transfer of records to successor employer | 1,155 railroads/contractors/TOLI | 3 records | 30 minutes | 1.5 | 116
243.205(c)—Railroad identification of supervisory employees who conduct periodic oversight tests by category/subcategory | 300 contractors | 100 identifications | 5 minutes | 8.3 | 639
—(f) Notification by RR of contractor employee non-compliance with Federal laws/regulations/orders to employee and employee's employer | 300 contractors | 90 employee notices | 10 minutes | 15 | 1,155
—(f) Notification by RR of contractor employee non-compliance with Federal laws/regulations/orders to employee and employee's employer | 300 contractors | 270 employer notices | 10 minutes | 45 | 3,465
—(i) and (j) Employer records of periodic oversight | 1,046 railroads/contractors | 150,000 records | 5 minutes | 12,500 | 962,500
243.207(a)—Written annual review of safety data (Railroads with 400,000 annual employee work hours or more) | 22 railroads | 22 reviews | 16 | 352 | 27,104
—(b) Railroad copy of written annual review at system headquarters | 22 railroads | 22 review copies | 5 minutes | 1.8 | 139
—(e) Railroad notification to contractor of relevant training program adjustments | 22 railroads | 2 notifications | 15 minutes | .5 | 39
243.209(a)-(b)—Railroad maintained list of contractors utilized | 746 railroads | 746 lists | 30 minutes | 373 | 28,721
—(c) Railroad duty to update list of contractors utilized and retain record for at least 3 years showing if a contractor was utilized in last 3 years | 746 railroads | 75 updated lists | 15 minutes | 18.8 | 1,444
Total | 1,155 railroads/contractors/training organizations/learning institutions | 165,054 responses | N/A | 91,069 | 7,020,889
¹ Note: The current inventory exhibits a total burden of 282,824 hours while that of this requesting notice is 91,069 hours. FRA determined many of the estimates were initial estimates and outdated. Moreover, other estimates were not derived from PRA requirements, thus leading to the increased figures in the current inventory, which were decreased accordingly in this notice. Also, totals may not add due to rounding.
² The dollar equivalent cost is derived from the Surface Transportation Board's Full Year Wage A&B data series using the appropriate employee group hourly wage rate that includes a 75-percent overhead charge.

Total Estimated Annual Responses: 165,054.

Total Estimated Annual Burden: 91,069 hours.

Total Estimated Annual Burden Hour Dollar Cost Equivalent: $7,020,889.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-21527 Filed 9-28-20; 8:45 am]

BILLING CODE 4910-06-P